DEPARTMENT OF HOMELAND SECURITY

Coast Guard

33 CFR Part 117

[Docket No. USCG-2008-0810]

Drawbridge Operation Regulation; Petaluma River, Petaluma, CA

AGENCY: Coast Guard, DHS.

ACTION: Notice of temporary deviation from regulations.

SUMMARY: The Commander, Eleventh Coast Guard District, has issued a temporary deviation from the regulation governing the operation of the “D” Street Drawbridge across the Petaluma River, mile 13.7, at Petaluma, CA. The deviation is necessary to conduct maintenance. This deviation allows the bridge to remain in the closed-to-navigation position during the deviation period.

DATES: This deviation is effective from 6 a.m. on September 3, 2008 through 7 p.m. on November 14, 2008.

ADDRESSES: Documents indicated in this preamble as being available in the docket are part of docket USCG-2008-0810 and are available online at www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and Commander (dpw), Eleventh Coast Guard District, Building 50-2, Coast Guard Island, Alameda, CA 94501-5100, between 8 a.m. and 4 p.m., Monday through Friday, except Federal holidays.

FOR FURTHER INFORMATION CONTACT: If you have questions on this notice, call David H. Sulouff, Chief, Bridge Section, Eleventh Coast Guard District, telephone (510) 437-3516. If you have questions on viewing the docket, call Renee Wright, Program Manager, Docket Operations, telephone 202-366-9826.

SUPPLEMENTARY INFORMATION: The City of Petaluma requested a temporary change to the operation of the “D” Street Drawbridge. The “D” Street Drawbridge's navigation span provides 7 feet of vertical clearance, at Mean High Water, in the closed-to-navigation position. The drawspan opens on signal if at least 4 hours notice is given for openings from 6 a.m. to 6 p.m., and if at least 24-hours notice is given for openings from 6 p.m. to 6 a.m.

The drawspan will be secured in the closed-to-navigation position, from 6 a.m. on September 3, 2008 through 7 p.m. on November 14, 2008, to allow the City of Petaluma to conduct needed maintenance, which includes; trunion pin replacement, deck resurfacing, and painting of the entire structure. To facilitate the maintenance, the contractor will install scaffolding beneath the bridge deck, reducing the vertical clearance provided for by the bridge in the closed-to-navigation position, by 5 feet.

From September through November, 2005-2007, the drawspan averaged 294 openings for vessels. This temporary deviation has been coordinated with waterway users. There will be no impact to commercial waterway users, no dredging is scheduled during this deviation period, and the City of Petaluma Visitors Bureau has been informing recreational waterway users of the maintenance. No objections to the proposed temporary deviation were raised.

Vessels that can transit the bridge, while in the closed-to-navigation position, may continue to do so at any time.

In the event of an emergency the drawspan can be opened with 24 days advance notice.

In accordance with 33 CFR 117.35(e), the drawbridge must return to its regular operating schedule immediately at the end of the designated time period. This deviation from the operating regulations is authorized under 33 CFR 117.35.

Dated: August 19, 2008.
P.F. Zukunft,
Rear Admiral, U.S. Coast Guard, Commander, Eleventh Coast Guard District.

[FR Doc. E8-19991 Filed 8-27-08; 8:45 am]

BILLING CODE 4910-15-P